DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held August 27, 2002 starting at 9 a.m.

ADDRESSES: The meeting will be held at RTCA, Inc., 1828 L Street, NW, Suite 805, Washington, DC, 20036.

FOR FURTHER INFORMATION CONTACT: RTCA Secretariat, 1828 L Street, NW, Suite 850, Washington, DC, 20036; telephone (202) 833-9339; fax (202) 833-9434; Web site http://www.rtca.org.

SUPPLEMENTARY INFORMATION: Pursuant to section 10(a)(2) of the Federal Advisory Committee Act, (Pub. L. 92-463, 5 U.S.C., Appendix 2), notice is hereby given for a Program Management Committee meeting. The agenda will include:

• Opening Session (Welcome and Introductory Remarks, Review/Approve Summary of Previous Meeting)

• Publication Consideration/Approval:

• Final Draft, Minimum Operational Performance Standards for Universal Access Transceiver (UAT) Automatic Dependent Surveillance Broadcast (ADS-B), RTCA Paper No. 182-02/PMC-224, prepared by SC-186.

• Final Draft, Change 2 to DO-224A, Signal-in-Space Minimum Aviation System Performance Standards (MASPS) for Advanced VHF Digital Data Communications Including Compatibility with Digital Voice Techniques, RTCA Paper No. 180-02/PMC-223, prepared by SC-172.

• Final Draft, DO-271A, Minimum Operational Performance Standards (MOPS) for Aircraft VDL Mode 3 Transceiver Operating in the Frequency Range 117.975-137.000MHz, prepared by SC-172, RTCA Paper No. 178-02/PMC-222.

• Discussion:

• Special Committee Chairman's Reports

• Action Item Review:

• Review/Status—All Open Action Items

• Other Business:

• Eurocontrol 8.33 kHz Vertical Expansion Study Report

• AOC Messages, Hazards and Procedural Mitigation

• Closing Session (Other Business, Document Production, Date and Place of Next Meeting, Adjourn)

Attendance is open to interested public but limited to space availability. With the approval of the chairmen, members of the public may present oral statements at the meeting. Persons wishing to present statements or obtain information should contact the person listed in the FOR FURTHER INFORMATION CONTACT section. Members of the public may present a written statement to the committee at any time.

Issued in Washington, DC, on July 25, 2002.
Janice L. Peters,
FAA Special Assistant, RTCA Advisory Committee.

[FR Doc. 02-19561 Filed 8-1-02; 8:45 am]

BILLING CODE 4910-13-M